DEPARTMENT OF ENERGY

Federal Energy Regulatory Commission

[Docket No. GT02-29-000]

Enbridge Offshore Pipelines (UTOS) LLC; Notice of Proposed Changes in FERC Gas Tariff

June 12, 2002.

Take notice that on June 4, 2002, Enbridge Offshore Pipelines (UTOS) LLC, formerly U-T Offshore System, L.L.C. (UTOS) tendered for filing to amend its FERC Gas Tariff, Fifth Revised Volume No. 1, First Revised Sheet No. 164, to be made effective July 1, 2002.

UTOS states that the purpose of the filing was to correct an error resulting from UTOS's filing of Fifth Revised Volume No. 1 of its FERC Gas Tariff on February 12, 2002 in FERC Docket No. GT02-10-000. The omission happened because the FERC Fastr System denoted both First Revised Sheet No. 95 and Sub Second Revised Sheet No. 95 (both contained in Fourth Revised Volume No. 1) as being effective, UTOS made the changes noted above and filed it with the Commission, it did not file the General Terms and Conditions language shown on Sub Second Revised Sheet No. 95.

UTOS states that copies of its filing has been sent to all affected customers and interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15406 Filed 6-18-02; 8:45 am]

BILLING CODE 6717-01-P